DEPARTMENT OF TRANSPORTATION

Surface Transportation Board

[STB Finance Docket No. 35124]

R.J. Corman Railroad Company/Central Kentucky Lines, LLC—Trackage Rights Exemption—CSX Transportation, Inc.

Pursuant to an oral agreement, CSX Transportation, Inc. (CSXT), has agreed with R.J. Corman Railroad Company/Central Kentucky Lines, LLC (RJCC), to modify an existing limited overhead trackage rights agreement ¹ regarding RJCC's use of a CSXT line of railroad from the parties' connection at CSXT milepost T1.8, at the end of CSXT's line known as the Water Street Lead, in Louisville, KY, to another point of connection at CSXT milepost 12.49, at HK Tower, near Anchorage, KY, a distance of approximately 10.75 miles.²

¹ The original rights were obtained by R.J. Corman Railroad Property, LLC (RJCP) as incidental trackage rights to a lease of another line exempted under 49 CFR 1150.41 in R.J. Corman Railroad Property, LLC—Lease Exemption—Line of CSX Transportation, Inc., STB Finance Docket No. 34625 (STB served Mar. 4, 2005). RJCP assigned the trackage rights to RJCC, its corporate affiliate. The assignment was exempted under 49 CFR 1150.41 in R.J. Corman Railroad Company/Central Kentucky Lines, LLC—Acquisition and Operation Exemption—Line of R.J. Corman Railroad Property, LLC, STB Finance Docket No. 34624 (STB served Feb. 23, 2005).

² RJCC originally filed its verified notice of exemption on March 25, 2008. That notice covered agreements for trackage rights modifications over two lines, the subject line and a line of railroad from the point of the parties' connection at CSXT milepost VB 113.81 near Winchester in Clark County, KY, to the industry track at CSXT milepost KC 131.0 near Berea, in Garrard County, KY, a distance of approximately 35 miles (the Berea Line). In a March 28, 2008 amendment to the original filing, RJCC withdrew the Berea Line agreement from what was sought to be exempted by this notice. RJCC states that it will file a separate verified notice of exemption with respect to the agreement modification for that segment.

The earliest this transaction can be consummated is April 24, 2008, the effective date of the exemption (30 days after the exemption is filed).

The purpose of the amendment is to relax the restrictions in the original agreement to permit two new types of direct service by RJCC over portions of its own track and CSXT's line. Specifically, the modification would allow RJCC to move carloads of cement and general merchandise cars between the Water Street Lead and its main line at Anchorage.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by April 17, 2008 (at least 7 days before the exemption becomes effective).

Pursuant to the Consolidated Appropriations Act, 2008, Pub. L. No. 110-161, 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35124, must be filed with the Surface Transportation Board, 395 E Street, SW., Washington, DC 20423-0001. In addition, a copy of each pleading must be served on Ronald A. Lane, Fletcher & Sippel LLC, 29 North Wacker Drive, Suite 920, Chicago, IL 60606-2832.

Board decisions and notices are available on our Web site at http://www.stb.dot.gov.

Decided: April 2, 2008.
By the Board, David M. Konschnik, Director, Office of Proceedings.
Anne K. Quinlan,
Acting Secretary.

[FR Doc. E8-7398 Filed 4-8-08; 8:45 am]

BILLING CODE 4915-01-P